NUCLEAR REGULATORY COMMISSION

[Docket Nos. 50-352-LR, 50-353-LR; [ASLBP No. 12-916-04-LR-BD01]

Exelon Generation Company, LLC; Establishment of Atomic Safety and Licensing Board

Pursuant to delegation by the Commission dated December 29, 1972, published in the Federal Register, 37 FR 28,710 (1972), and the Commission's regulations, see, e.g., 10 CFR 2.104, 2.105, 2.300, 2.309, 2.313, 2.318, and 2.321, notice is hereby given that an Atomic Safety and Licensing Board (Board) is being established to preside over the following proceeding:

Exelon Generation Company, LLC (Limerick Generating Station, Units 1 and 2)

This proceeding involves an application by Exelon Generation Company, LLC to renew for twenty years its operating licenses for Limerick Generating Station, Units 1 and 2, which are located In Limerick, Pennsylvania. The current Unit 1 and Unit 2 operating licenses expire on October 26, 2024, and June 22, 2029, respectively. In response to a Notice of Opportunity for Hearing published in the Federal Register on August 24, 2011 (76 FR 52,992), a request for hearing was filed on November 22, 2011 by the Natural Resources Defense Council.

The Board is comprised of the following administrative judges:

William J. Froehlich, Chair, Atomic Safety and Licensing Board Panel, U.S. Nuclear Regulatory Commission, Washington, DC 20555-0001;

Dr. Michael F. Kennedy, Atomic Safety and Licensing Board Panel, U.S. Nuclear Regulatory Commission, Washington, DC 20555-0001;

Dr. William E. Kastenberg, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 15th day of December 2011.
E. Roy Hawkens,
Chief Administrative Judge, Atomic Safety and Licensing Board Panel.

[FR Doc. 2011-32640 Filed 12-20-11; 8:45 am]

BILLING CODE 7590-01-P